DEPARTMENT OF HEALTH AND HUMAN SERVICES

National Institutes of Health

National Institute on Alcohol Abuse and Alcoholism; Amended Notice of Meeting

Notice is hereby given of a change in the meeting of the National Advisory Council on Alcohol Abuse and Alcoholism, February 04, 2015, 9 a.m. to February 05, 2015, 2 p.m., National Institutes of Health, 5635 Fishers Lane, Bethesda, MD 20892 which was published in the Federal Register on January 09, 2015, 80 FR 1427.

The meeting notice is amended to reflect that that the open session of the meeting will be available via http://videocast.nih.gov/summary.asp?live=15490&bhcp=1. The meeting is partially closed to the public.

Dated: January 21, 2015.
Melanie J. Gray,
Program Analyst, Office of Federal Advisory Committee Policy.

[FR Doc. 2015-01370 Filed 1-26-15; 8:45 am]

BILLING CODE 4140-01-P